DEPARTMENT OF HOUSING AND URBAN DEVELOPMENT

[Docket No. FR-5415-C-17]

Notice of Availability: Notice of Funding Availability (NOFA) for Fiscal Year (FY) 2010 Continuum of Care (CoC) Homeless Assistance Program; Technical Correction

AGENCY: Office of the Chief of the Human Capital Officer, HUD.

ACTION: Notice of technical correction.

SUMMARY: On September 20, 2010, HUD posted on http://www.Grants.gov and http://www.hudhre.info its Notice of Funding Availability (NOFA) for HUD's FY2010 Continuum of Care Homeless Assistance Program. Today's Federal Register publication announces that HUD has posted on http://www.Grants.gov and http://www.hudhre.info a technical correction that corrects Appendix A of the NOFA. Appendix A of the NOFA, the “List of Counties Defined as Rural for the FY2010 Selection Criteria,” inadvertently omitted listing six counties. As provided in the FY2010 CoC NOFA, counties listed on Appendix A and otherwise meeting the criteria described in Section III.C.2.a.(5) of the NOFA, are eligible for consideration for the selection priority described in Section V.B.2 of the NOFA. In addition, HUD determined that five counties not meeting the definition of rural county used in the FY2010 CoC NOFA were inadvertently included on the list of rural counties in Appendix A. As a result, HUD has corrected Appendix A.

The revised CoC NOFA along with the corrected Appendix A can be found and downloaded from http://www.grants.gov and http://www.hudhre.info. This correction does not change the application deadline date which remains November 18, 2010.

FOR FURTHER INFORMATION CONTACT: For questions concerning this technical correction, please contact HUD's Homeless Resource Exchange (HRE) Help Desk at http://www.hudhre.info/helpdesk. Individuals who are hearing or speech-impaired should use the Information Relay Service at 1-800-877-8339 (these are toll-free numbers).

Dated: October 20, 2010.
Barbara S. Dorf,
Director, Departmental Grants Management and Oversight Office of the Chief of the Human Capital Officer.

[FR Doc. 2010-27015 Filed 10-22-10; 8:45 am]

BILLING CODE 4210-67-P